ENVIRONMENTAL PROTECTION AGENCY

40 CFR Part 52

[EPA-R01-OAR-2015-0546; A-1-FRL-9933-89-Region 1]

Approval and Promulgation of Air Quality Implementation Plans; Connecticut; Volatile Organic Compound Emissions From Large Aboveground Storage Tanks

AGENCY: Environmental Protection Agency (EPA).

ACTION: Direct final rule.

SUMMARY: The Environmental Protection Agency (EPA) is approving a State Implementation Plan (SIP) revision submitted by the State of Connecticut. The revision amends Regulations of Connecticut State Agencies (RCSA) section 22a-174-20 to update the requirements for controlling volatile organic compound (VOC) emissions from large aboveground storage tanks. The intended effect of this action is to approve these regulations into the Connecticut SIP. This action is being taken in accordance with the Clean Air Act (CAA).

DATES: This direct final rule will be effective January 4, 2016, unless EPA receives adverse comments by December 3, 2015. If adverse comments are received, EPA will publish a timely withdrawal of the direct final rule in the Federal Register informing the public that the rule will not take effect.

ADDRESSES: Submit your comments identified by Docket ID Number EPA-R01-OAR-2015-0546, by one of the following methods:

1. www.regulations.gov: Follow the on-line instructions for submitting comments.

2. Email: mackintosh.david@epa.gov.

3. Fax: (617) 918-0584.

4. Mail: “Docket Identification Number EPA-R01-OAR-2015-0546,” David Mackintosh, Air Quality Planning Unit, Office of Ecosystem Protection, U.S. Environmental Protection Agency, EPA New England Regional Office, 5 Post Office Square—Suite 100, (Mail code OEP05-2), Boston, MA 02109-3912.

5. Hand Delivery or Courier. Deliver your comments to: Anne Arnold, Manager, Air Quality Planning Unit, Office of Ecosystem Protection, U.S. Environmental Protection Agency, EPA New England Regional Office, 5 Post Office Square—Suite 100, (Mail code OEP05-2), Boston, MA 02109-3912. Such deliveries are only accepted during the Regional Office's normal hours of operation. The Regional Office's official hours of business are Monday through Friday, 8:30 a.m. to 4:30 p.m., excluding legal holidays.

Instructions: Direct your comments to Docket ID Number EPA-R01-OAR-2015-0546. EPA's policy is that all comments received will be included in the public docket without change and may be made available online at www.regulations.gov, including any personal information provided, unless the comment includes information claimed to be Confidential Business Information (CBI) or other information whose disclosure is restricted by statute. Do not submit through www.regulations.gov, or email, information that you consider to be CBI or otherwise protected. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy at Office of Ecosystem Protection, U.S. Environmental Protection Agency, EPA New England Regional Office, 5 Post Office Square—Suite 100, Boston, MA. EPA requests that if at all possible, you contact the contact listed in the FOR FURTHER INFORMATION CONTACT section to schedule your inspection. The Regional Office's official hours of business are Monday through Friday, 8:30 a.m. to 4:30 p.m., excluding legal holidays.

In addition, copies of the state's submittal are available for public inspection during normal business hours, by appointment at the state environmental agency: The Bureau of Air Management, Department of Energy and Environmental Protection, State Office Building, 79 Elm Street, Hartford, CT 06106-1630.

FOR FURTHER INFORMATION CONTACT: David Mackintosh, Air Quality Planning Unit, U.S. Environmental Protection Agency, New England Regional Office, 5 Post Office Square—Suite 100, (Mail Code OEP05-02), Boston, MA 02109-3912, telephone 617-918-1584, facsimile 617-918-0584, email mackintosh.david@epa.gov.

SUPPLEMENTARY INFORMATION: Throughout this document whenever “we,” “us,” or “our” is used, we mean EPA. The following outline is provided to aid in locating information in this preamble.

I. What action is EPA taking?

II. What is the background for this action?

III. What is included in the submittal?

IV. EPA's Evaluation of the Submittal

V. Final Action

VI. Incorporation by Reference

VII. Statutory and Executive Order Reviews

I. What action is EPA taking?

EPA is approving a SIP revision submitted by the State of Connecticut on April 8, 2014, concerning updates to requirements for controlling VOC emissions from large aboveground storage tanks. The Connecticut requirements, set out in RCSA section 22a-174-20, “Control of organic compound emissions,” subsections (a), (b), (c) and (x), were revised to be consistent with the Ozone Transport Commission (OTC) model rule for large aboveground VOC storage tanks.

II. What is the background for this action?

EPA last approved RCSA section 22a-174-20, “Control of organic compound emissions,” subsections that addresses large aboveground storage tanks into the Connecticut SIP on October 18, 1991 (56 FR 52205).

On June 3, 2010, Connecticut signed an OTC Memorandum of Understanding (MOU) committing the state to the evaluation and adoption of an OTC model rule designed to reduce VOC emissions from large aboveground storage tanks.

On March 5, 2014, Connecticut revised RCSA section 22a-174-20 subsections (a), (b), (c) and (x) to update VOC emission control requirements from large aboveground storage tanks. On April 8, 2014, the Connecticut Department of Energy and Environmental Protection (DEEP), submitted the newly adopted subsections to EPA as a SIP revision.

III. What is included in the submittal?

Connecticut's April 8, 2014 SIP submittal includes revised RCSA section 22a-174-20, “Control of organic compound emissions.” Specifically, the following subsections of Connecticut's existing regulation were revised:

1. Subsection (a), “Storage of volatile organic compounds and restrictions for the Reid vapor pressure of gasoline;”

2. subsection (b), “Loading of gasoline and other volatile organic compounds,” subdivisions (1) through (4) and (17);

3. subsection (c), “Volatile organic compound and water separation;” and

4. subsection (x), “Control of Volatile Organic Compound Leaks from Synthetic Organic Chemical & Polymer Manufacturing Equipment,” subdivision (12).

IV. EPA's Evaluation of the Submittal

RCSA section 22a-174-20, “Control of organic compound emissions,” subsections (a), (b), (c) and (x) have been revised to incorporate the OTC model rules for large aboveground VOC storage tanks. Specifically, Connecticut adopted the following substantive changes:

1. Remove the option to use an un-domed floating roof tank to store VOCs, clarify inspection requirements, and add requirements for roof landing events, degassing, and cleaning operations in subsection (a);

2. Revise the storage and transfer of VOCs to include a lower vapor pressure floor for determining applicability and the vapor pressure is simplified by basing it on absolute vapor pressure rather than actual vapor pressure in subsections (a) and (b);

3. Add a requirement for the timely repair of leaks throughout the VOC storage and transfer facility as subdivision (b)(17);

4. Revise the floating roof requirements for volatile organic compound and water separators to be consistent with the floating roof requirements for storage tanks in subsection (c) and;

5. Revise the tank control provisions for synthetic organic chemical and polymer manufacturing equipment to require retesting within two days of repairs in subdivision (x)(12).

Connecticut's revised RCSA section 22a-174-20 includes additional and more stringent VOC emission controls than the previous SIP-approved version of the rule, and are generally consistent with the recommendations made within the OTC's model rule. Thus, the revised RCSA section 22a-174-20 satisfies the anti-back sliding requirements in Section 110(l) of the CAA and we are approving Connecticut's revised rule into the Connecticut SIP.

V. Final Action

EPA is approving and incorporating into the Connecticut SIP the following revisions of RCSA section 22a-174-20, “Control of organic compound emissions,” to update the control of emissions from large aboveground storage tanks:

(1) the amendment of subsection (a);

(2) the withdrawal of subdivision (b)(1);

(3) the amendment of subdivisions (b)(2), (b)(3) and (b)(4);

(4) the addition of subdivision (b)(17);

(5) the amendment of subsection (c); and

(6) the amendment of subdivision (x)(12).

The EPA is publishing this action without prior proposal because the Agency views this as a noncontroversial amendment and anticipates no adverse comments. However, in the proposed rules section of this Federal Register publication, EPA is publishing a separate document that will serve as the proposal to approve this SIP revision should relevant adverse comments be filed. This rule will be effective January 4, 2016 without further notice unless the Agency receives relevant adverse comments by December 3, 2015.

If the EPA receives such comments, then EPA will publish a notice withdrawing the final rule and informing the public that the rule will not take effect. All public comments received will then be addressed in a subsequent final rule based on the proposed rule. The EPA will not institute a second comment period on the proposed rule. All parties interested in commenting on the proposed rule should do so at this time. If no such comments are received, the public is advised that this rule will be effective on January 4, 2016 and no further action will be taken on the proposed rule. Please note that if EPA receives adverse comment on an amendment, paragraph, or section of this rule and if that provision may be severed from the remainder of the rule, EPA may adopt as final those provisions of the rule that are not the subject of an adverse comment.

VI. Incorporation by Reference

In this rule, the EPA is finalizing regulatory text that includes incorporation by reference. In accordance with requirements of 1 CFR 51.5, the EPA is finalizing the incorporation by reference of the Regulations of Connecticut State Agencies described in the amendments to 40 CFR part 52 set forth below. The EPA has made, and will continue to make, these documents generally available electronically through www.regulations.gov and/or in hard copy at the appropriate EPA office (see the ADDRESSES section of this preamble for more information).

VII. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the Clean Air Act; and

• does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by January 4, 2016. Filing a petition for reconsideration by the Administrator of this final rule does not affect the finality of this action for the purposes of judicial review nor does it extend the time within which a petition for judicial review may be filed, and shall not postpone the effectiveness of such rule or action.

Parties with objections to this direct final rule are encouraged to file a comment in response to the parallel notice of proposed rulemaking for this action published in the proposed rules section of today's Federal Register, rather than file an immediate petition for judicial review of this direct final rule, so that EPA can withdraw this direct final rule and address the comment in the proposed rulemaking. This action may not be challenged later in proceedings to enforce its requirements. (See section 307(b)(2).)

List of Subjects in 40 CFR Part 52

Environmental protection, Air pollution control, Incorporation by reference, Ozone, Reporting and recordkeeping requirements, Volatile organic compounds.

Dated: August 27, 2015.
H. Curtis Spalding,
Regional Administrator, EPA New England.

Part 52 of chapter I, title 40 of the Code of Federal Regulations is amended as follows:

PART 52—APPROVAL AND PROMULGATION OF IMPLEMENTATION PLANS

1. The authority citation for part 52 continues to read as follows:

Authority: 42 U.S.C. 7401 et seq.

Subpart H—Connecticut

2. Section 52.370 is amended by adding paragraph (c)(110) to read as follows:

§ 52.370 Identification of plan.

* * * * *

(c) * * *

(110) Revisions to the State Implementation Plan submitted by the Connecticut Department of Energy and Environmental Protection on April 8, 2014.

(i) Incorporation by reference.

(A) Regulations of Connecticut State Agencies, revisions to Section 22a-174-20(a), as published in the Connecticut Law Journal on May 6, 2014, effective March 7, 2014:

(1) 22a-174-20(a);

(2) 22a-174-20(b)(2), (b)(3), (b)(4), and (b)(17);

(3) 22a-174-20(c); and

(4) 22a-174-20(x)(12).

(B) Regulations of Connecticut State Agencies, Subsection (b)(1) of Section 22a-174-20 is removed without replacement, as published in the Connecticut Law Journal on May 6, 2014, effective March 7, 2014.

3. In § 52.385, Table 52.385 is amended by adding a new entry to an existing state citation for 22a-174-20 to read as follows:

§ 52.385—EPA-approved Connecticut regulations.

* * * * *

Table 52.385—EPA-Approved Regulations
Connecticut state citation | Title/subject | Dates: Date adopted by State | Dates: Date approved by EPA | Federal Register citation | Section 52.370 | Comments/description
* * * * * * *
22a-174-20 | Control of organic compound emissions | 3/5/14 | 11/3/15 | [Insert Federal Register citation] | (c)(110) | Large aboveground storage tanks updates: amend (a); withdraw (b)(1); amend (b)(2), (b)(3) and (b)(4); add (b)(17); amend (c) and (x)(12).
* * * * * * *

[FR Doc. 2015-27900 Filed 11-2-15; 8:45 am]

BILLING CODE 6560-50-P